DEPARTMENT OF HOMELAND SECURITY

Transportation Security Administration

[Docket No. TSA-2009-0018]

Extension of Agency Information Collection Activity Under OMB Review: Certified Cargo Screening Standard Security Program

AGENCY: Transportation Security Administration, DHS.

ACTION: 30-Day notice.

SUMMARY: This notice announces that the Transportation Security Administration (TSA) has forwarded the Information Collection Request (ICR), Office of Management and Budget (OMB) control number 1652-0053, abstracted below to OMB for an extension in compliance with the Paperwork Reduction Act. The ICR describes the nature of the information collection and its expected burden. The collection involves: (1) Applications from entities that wish to become Certified Cargo Screening Facilities (CCSFs) or Third-Party Canine-Cargo (3PK9-C) Certifiers; (2) personally identifiable information to allow TSA to conduct security threat assessments (STA) on certain individuals employed by the CCSFs or 3PK9-C Certifiers and those authorized to conduct 3PK9-C Program activities; (3) standard security programs or submission of a proposed modified security program or amendment to a security program by CCSFs, or standards provided by TSA or submission of a proposed modified standard by 3PK9-C Certifiers; (4) recordkeeping requirements for CCSFs and 3PK9-C Certifiers; (5) designation of a Security Coordinator (SC) by CCSFs and 3PK9-C Certifiers; and (6) significant security concerns detailing information of incidents, suspicious activities, and/or threat information by CCSFs and 3PK9-C Certifiers.

DATES: Send your comments by June 14, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on November 18, 2020, 85 FR 73502.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Certified Cargo Screening Standard Security Program.

Type of Request: Revision of one currently approved ICR.

OMB Control Number: 1652-0053.

Forms(s): The forms used for this collection of information include Letter of Intent (TSA Form 419A); CCSF Profile Application (TSA Form 419B); CCSF Principal Attestation (TSA Form 419D); CCSF Security Profile (TSA Form 419E); and the Security Threat Assessment Application (TSA Form 419F).

Affected Public: The collections of information that make up this ICR involve entities other than aircraft operators and include facilities upstream in the air cargo supply chain, such as shippers, manufacturers, warehousing entities, distributors, third party logistics companies, indirect air carriers, CCSFs and 3PK9 Certifiers located in the United States. For purposes of this document, CCSFs refers to both facility-based CCSFs and CCSF-K9s.

Abstract: TSA is seeking continued approval from OMB for the collection of information contained in the ICR. Section 1602 of the Implementing Recommendations of the 9/11 Commission Act of 2007, Public Law 110-53 (121 Stat. 266, Aug. 3, 2007) (9/11 Act) required the development of a system to screen 100 percent of such cargo no later than August 2010. TSA currently requires 100 percent screening of all cargo transported on passenger aircraft.¹ The screening of air cargo must be in a manner approved by TSA and be commensurate with the level of security for the screening of passenger checked baggage.²

¹ See 49 CFR 1544.205(g) and 1546.205(g)(1).

² Id. See also 49 U.S.C. 44901(g)(2).

TSA's regulations in 49 CFR part 1549 for the Certified Cargo Screening Program (CCSP) support the 9/11 Act mandate by providing an alternative means of compliance with the 100 percent screening requirement. In order to comply with the statutory mandate, the CCSP allows shippers, indirect air carriers, and other entities to voluntarily participate in a program through which TSA certifies entities to screen air cargo off-airport before it is tendered to air carriers for transport on passenger aircraft. CCSFs may screen cargo off-airport and must implement measures to ensure a secure chain of custody from the point of screening to the point at which the cargo is tendered to the aircraft operator. In addition, TSA developed a program to certify 3PK9-C Teams to screen air cargo.³ TSA incorporated this capability under the framework of the CCSP, providing an opportunity for canine team providers to choose to be regulated as CCSFs under 49 CFR part 1549 and approved to use Certified 3PK9-C Teams to screen cargo for TSA regulated entities.

³ See sec. 1941 of the FAA Reauthorization Act of 2019, Division K, Title I (Pub. L. 115-254; 132 Stat. 3186; Oct. 5, 2018).

TSA's three primary programs issued under 49 CFR part 1549 provides standards for compliance for those entities subject to the program's requirements: (1) The Certified Cargo Screening Security Program, applicable to facilities-based CCSFs; (2) the Certified Cargo Security Program-K9, applicable to canine team providers; and (3) the 3PK9-C Certifier Order, applicable to third-party certifiers.

The following are required to maintain the CCSP: CCSF applications, 3KP9 certifier applications, STA applications, criminal history records check, recordkeeping requirements, security program information, 3PK9-C Certifier Order, significant security concerns information, and security coordinator information.

Total Estimated Number of Respondent: 2,527.

Total Estimated Annual Burden Hours: 16,041 hours annually.⁴

⁴ The annual burden number has been updated since the submission of the 60-day notice, which reported, 16,189.98.

Dated: May 10, 2021.
Christina A. Walsh,
Paperwork Reduction Act Officer, Information Technology.

[FR Doc. 2021-10131 Filed 5-12-21; 8:45 am]

BILLING CODE 9110-05-P